NATIONAL ARCHIVES AND RECORDS ADMINISTRATION

[NARA-2016-053]

Agency Information Collection Activities: Proposed Collection; Comment Request

AGENCY: National Archives and Records Administration (NARA).

ACTION: Notice of proposed extension request.

SUMMARY: We are proposing to use NA Form 16016, Limited Facility Report, to review the facility, environment, and staffing capabilities of non-NARA organizations that wish to borrow a National Archives Traveling Exhibit. We invite you to comment on this proposed information collection pursuant to the Paperwork Reduction Act of 1995.

DATES: We must receive written comments on or before December 5, 2016.

ADDRESSES: Send comments to Paperwork Reduction Act Comments (ID), Room 4400; National Archives and Records Administration; 8601 Adelphi Road; College Park, MD 20740-6001, fax them to 301-713-7409, or email them to tamee.fechhelm@nara.gov.

FOR FURTHER INFORMATION CONTACT: Contact Tamee Fechhelm by telephone at 301-837-1694, or by email at tamee.fechhelm@nara.gov, with requests for additional information or copies of the proposed information collection and supporting statement.

SUPPLEMENTARY INFORMATION: Pursuant to the Paperwork Reduction Act of 1995 (Pub. L. 104-13), NARA invites the public and other Federal agencies to comment on proposed information collections. The comments and suggestions should address one or more of the following points: (a) Whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether this collection affects small businesses. We will summarize any comments you submit and include the summary in our request for OMB approval. All comments will become a matter of public record. In this notice, NARA solicits comments concerning the following information collection:

Title: Limited Facility Report.

OMB Number: 3095-00XX.

Agency Form Number: NA Form 16016.

Type of Review: Regular,

Affected Public: Not-for-profit institutions.

Estimated Number of Respondents: 75.

Estimated Time per Response: 60 minutes.

Frequency of Response: On occasion.

Estimated Total Annual Burden Hours: 75 hours.

Abstract: NARA administers the National Archives Traveling Exhibits Services (NATES) in accordance with 44 U.S.C. 2108-9 to present exhibitions of its holdings and to enter into agreements under 44 U.S.C. 2305 to support such exhibitions.

NARA has developed NA Form 16016, Limited Facility Report, to serve as an application and to identify a venue's facility and environmental conditions. We provide a copy of the form, requirements for exhibition security, and regulations to the applicant. NARA needs the information contained on this form to determine whether the proposed facility meets the criteria under NARA Directive 1612, Exhibition Loans and Traveling Exhibitions.

Swarnali Haldar,
Executive for Information Services/CIO.

[FR Doc. 2016-23935 Filed 10-3-16; 8:45 am]

BILLING CODE 7515-01-P